FEDERAL COMMUNICATIONS COMMISSION

47 CFR Part 73

[DA 03-154; MB Docket No. 03-12, RM-10627; MB Docket No. 03-13, RM-10628; and MB Docket No. 03-14, RM-10629]

Radio Broadcasting Services: Johnston City and Marion, Illinois; Fredericksburg and Mason, Texas; Charles Town, West Virginia and Stephens City, Virginia

AGENCY: Federal Communications Commission.

ACTION: Proposed rule.

SUMMARY: This document requests comments on proposals in three separately docketed proceedings in a multiple docket Notice of Proposed Rule Making. The first, filed by Cleveland Radio Licenses, LLC, proposes to change Station WXVA-FM's community of license from Charles Town, West Virginia, to Stephens City, Virginia, and provide Stephens City with its first local aural transmission service. The coordinates for requested Channel 252A at Stephens City, Virginia are 39-07-30 NL and 78-04-26 WL, with a site restriction of 13.3 kilometers (8.3 miles) east of Stephens City, Virginia. The second, filed by Clear Channel Broadcasting Licenses, Inc., proposes to change Station WDDD-FM's community of license from Marion, Illinois to Johnston City, Illinois, and provide Johnston City with its first local FM transmission station. The coordinates for requested Channel 297B at Johnston City, Illinois, are 37-45-15 NL and 88-56-05 WL, with a site restriction of 7.4 kilometers (4.6 miles) south of Johnston City, Illinois. The third proposal was filed by Jayson and Janice Fritz. They hold a construction permit to operate a new FM broadcast station on Channel 289C2 at Mason, Texas. They request that the Commission downgrade Channel 289C2 to Channel 289C3, and reallot that channel to Fredericksburg, Texas, to provide Fredericksburg with its first local commercial FM transmission service. The coordinates for requested Channel 289C3 at Fredericksburg, Texas are 30-23-37 NL and 99-01-05 WL, with a site restriction of 19.3 kilometers (12 miles) northwest of Fredericksburg.

The foregoing reallotment proposals comply with the provisions of Section 1.420(i) of the Commission's Rules, and therefore, the Commission will not accept competing expressions of interest in the use of Channel 252A at Stephens City, Virginia, Channel 297B at Johnston City, Illinois, or Channel 289C3 at Fredericksburg, Texas, or require the rulemaking proponents to demonstrate the availability of any additional equivalent class channels.

DATES: Comments must be filed on or before March 10, 2003, and reply comments on or before March 25, 2003.

ADDRESSES: Secretary, Federal Communications Commission, 445 12th Street, SW., Room TW-A325, Washington, DC 20554. In addition to filing comments with the FCC, interested parties should serve counsel for the rulemaking proponents, as follows: Mark N. Lipp, Esq. and J. Thomas Nolan, Esq., Shook, Hardy & Bacon; 600 14th Street, NW., Suite 800; Washington, DC 20005-2004 (Counsel for Cleveland Radio Licenses, LLC and Clear Channel Broadcasting Licenses, Inc.); and Vincent J. Curtis, Jr., Esq., Anne Goodwin Crump, Esq., and Alison J. Shapiro, Esq., Fletcher Heald & Hildreth, P.L.C.; 1300 North 17th Street, 11th Floor; Arlington, Virginia 22209 (Counsel for Jayson and Janice Fritz).

FOR FURTHER INFORMATION CONTACT: R. Barthen Gorman, Media Bureau, (202) 418-2180.

SUPPLEMENTARY INFORMATION: This is a synopsis of the Commission's Notice of Proposed Rule Making, MB Docket No. 03-12; MB Docket No. 03-13; and MB Docket No. 03-14, adopted January 15, 2003, and released January 17, 2003. The full text of this Commission decision is available for inspection and copying during regular business hours in the FCC's Reference Information Center at Portals II, 445 12th Street, SW., CY-A257, Washington, DC 20554. This document may also be purchased from the Commission's duplicating contractors, Qualex International, Portals II, 445 12th Street, SW., Room CY-B402, Washington, DC 20554, telephone 202-863-2893, facsimile 202-863-2898, or via e-mail qualexint@aol.com.

The provisions of the Regulatory Flexibility Act of 1980 do not apply to this proceeding.

Members of the public should note that from the time a Notice of Proposed Rule Making is issued until the matter is no longer subject to Commission consideration or court review, all ex parte contacts are prohibited in Commission proceedings, such as these proceedings, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR Part 73 as follows:

PART 73—RADIO BROADCAST SERVICES

1. The authority citation for Part 73 continues to read as follows:

Authority: 47 U.S.C. 154, 303, 334, and 336.

§ 73.202 [Amended]

2. Section 73.202(b), the Table of FM Allotments under Illinois, is amended by adding Johnston City, Channel 297B, and removing Channel 297B at Marion.

3. Section 73.202(b), the Table of FM Allotments under Texas, is amended by adding Fredericksburg, Channel 289C3, and removing Channel 289C2 at Mason.

4. Section 73.202(b), the Table of FM Allotments under Virginia, is amended by adding Stephens City, Channel 252A.

5. Section 73.202(b), the Table of FM allotments under West Virginia, is amended by removing Charles Town, Channel 252A.

Federal Communications Commission.
John A. Karousos,
Assistant Chief, Audio Division, Media Bureau.

[FR Doc. 03-2669 Filed 2-4-03; 8:45 am]

BILLING CODE 6712-01-P